ARCHITECTURAL AND TRANSPORTATION BARRIERS COMPLIANCE BOARD

Notice of Meeting

AGENCY: Architectural and Transportation Barriers Compliance Board.

SUMMARY: The Architectural and Transportation Barriers Compliance Board (Access Board) has scheduled its ad hoc committee and board meetings to take place in Washington, DC on Tuesday and Wednesday, January 11-12, 2005 as noted below.

DATES: The schedule of events is as follows:

Tuesday, January 11, 2005

1:30-5 p.m. Ad Hoc Committee on Public Rights-of-Way (Closed)

Wednesday, January 12, 2005

10-11 a.m. Technical Programs

11-Noon Planning and Budget

1:30-3 p.m. Board Meeting

ADDRESSES: The meeting will be held at the Marriott at Metro Center Hotel, 775 12th Street, NW., Washington, DC 20005.

FOR FURTHER INFORMATION CONTACT: For further information regarding this meeting, please contact Lawrence W. Roffee, Executive Director, (202) 272-0001 (voice) and (202) 272-0082 (TTY).

SUPPLEMENTARY INFORMATION: At the open portions of the Board meeting, the Access Board will consider the following agenda items: (a) Approval of the November 10, 2004 draft meeting minutes; (b) Technical Programs committee report; (c) Planning and Budget committee report; (d) new agency Web site; and, (e) appointment of the 2005 Nominating Committee Members. The Board meeting will be closed to the public for the Public Rights-of-Way rulemaking item.

This meeting is accessible to persons with disabilities. If you plan to attend and require a sign language interpreter or similar accommodation, please make your request with the Board by January 5, 2004. Persons attending Board meetings are requested to refrain from using perfume, cologne, and other fragrances for the comfort of other participants.

Lawrence W. Roffee,
Executive Director.

[FR Doc. 04-28706 Filed 12-30-04; 8:45 am]

BILLING CODE 8150-01-P